DEPARTMENT OF AGRICULTURE

Forest Service

Notice of Proposed New Fee Sites on the Shasta-Trinity National Forest Federal Lands Recreation Enhancement Act (Title VIII, Pub. L. 108-447)

AGENCY: USDA Forest Service, Shasta-Trinity National Forest.

ACTION: Notice of new fee sites on the Shasta-Trinity National Forest.

SUMMARY: The Shasta-Trinity National Forest is proposing to charge fees for overnight camping at three campgrounds and eight popular day use sites in 2008. The proposed fees include:

Overnight Camping

1. Big Bar Campground: $8.00/night/site plus a $5.00/night extra vehicle fee.

2. Ripstein Campground: $10.00/night/site plus a $5.00/night extra vehicle fee.

3. Scott Flat Campground: $10.00/night/site plus a $5.00/night extra vehicle fee.

Extra vehicle fees are being proposed at several campgrounds where space is at a premium. If all camp sites at these locations are full and everyone brings an extra vehicle, there isn't enough room to park and resources are impacted.

Day Use Sites

1. Fisherman's Point: $3.00/vehicle/day.

2-8. Day use sites within the following seven campgrounds: Big Bar, Big Flat, Burnt Ranch, Hayden Flat, Pigeon Point, Ripstein and Skunk Point: $5.00/vehicle/day or $50.00 annually for the use of any of the day use sites at these seven campgrounds.

The proposed fees are based on the level of amenities and services provided, an operational analysis identifying the cost of operating and maintaining these sites and market research.

Visitors appreciate and enjoy the availability of these outdoor opportunities with a scenic backdrop on the Shasta-Trinity National Forest. The overall goal of charging fees is to provide better services for the recreating public and to protect the investments that have been made at these sites. Fee revenue would be used to repair and improve facilities, including replacing some restrooms; installing bear-proof receptacles to facilitate recycling glass, aluminum and plastic; improving water systems and roads; replacing degraded picnic tables; reducing fuels; and increasing the frequency of restroom cleanings and garbage collection activities.

DATES: New fees will be implemented after March 1, 2008.

ADDRESSES: J. Sharon Heywood, Forest Supervisor, Shasta-Trinity National Forest, 3644 Avtech Parkway, Redding, California 96002.

FOR FURTHER INFORMATION CONTACT: Brenda Tracy, Assistant Public Use Staff Officer, at 3644 Avtech Parkway, Redding, CA 96002. Information about proposed fees can also be found on the Shasta-Trinity National Forest Web site: http://www.fs.fed.us/r5/shastatrinity/.

SUPPLEMENTARY INFORMATION: The Federal Recreation Lands Enhancement Act (Title VII, Pub. L. 108-447) directed the Secretary of Agriculture to publish a six month advance notice in the Federal Register whenever new recreation fee areas are established. These new fees will be reviewed by a Recreation Resource Advisory Committee prior to a final decision and implementation.

Dated: September 6, 2007.
Scott G. Armentrout,
Deputy Forest Supervisor, Shasta-Trinity National Forest.

[FR Doc. 07-4494 Filed 9-12-07; 8:45 am]

BILLING CODE 3410-11-M